DEPARTMENT OF STATE

[Public Notice No. 3437]

Advisory Panel to the United States Section of the North Pacific Anadromous Fish Commission; Notice of a Closed Meeting

The Advisory Panel to the United States Section of the North Pacific Anadromous Fish Commission will meet on October 29, 2000, at the Imperial Hotel, 1-1-1, Uchisaiwaicho, Chiyoda-ky, Tokyo 100-8558, Japan. This session will involve discussion of the Eighth Annual Meeting of the North Pacific Anadromous Fish Commission, to be held on October 30—November 2, 2000. The discussion will begin at 7:00 p.m. and is closed to the public.

The members of the Advisory Panel will examine various options for the U.S. position at the Eighth Annual Meeting. These considerations must necessarily involve review of sensitive matters, the disclosure of which would frustrate U.S. participation at the Annual Meeting. Accordingly, the determination has been made to close the 7:00 p.m. meeting pursuant to Section 10(d) of the Federal Advisory Committee Act and 5 U.S.C. Section 552b(c)(9).

Requests for further information on the meeting should be directed to Ms. Sally Cochran, International Relations Officer, Office of Marine Conservation (OES/OMC), Room 5806, U.S. Department of State, Washington, D.C. 20520-7818. Ms. Cochran can be reached by telephone on (202) 647-2883 or by FAX (202) 736-7350.

Dated: October 11, 2000.
Mary Beth West,
Deputy Assistant Secretary for Oceans and Fisheries, Department of State.

[FR Doc. 00-26775 Filed 10-17-00; 8:45 am]

BILLING CODE 4710-09-P